DEPARTMENT OF JUSTICE

Antitrust Division

Notice Pursuant to the National Cooperative Research and Production Act of 1993—The Telemanagement Forum

Notice is hereby given that, on July 8, 2015, pursuant to section 6(a) of the National Cooperative Research and Production Act of 1993, 15 U.S.C. 4301 et seq. (“the Act”), The TeleManagement Forum (“The Forum”) has filed written notifications simultaneously with the Attorney General and the Federal Trade Commission disclosing changes in its membership. The notifications were filed for the purpose of extending the Act's provisions limiting the recovery of antitrust plaintiffs to actual damages under specified circumstances. Specifically, Sitronics Telecom Solutions Co. (Pvt.) Ltd., Lahore, PAKISTAN; Broadpeak, Rennes, FRANCE; Manx ICT Association (MICTA), Douglas, UNITED KINGDOM; Virgin Media, Hook, UNITED KINGDOM; CENX, Ottawa, CANADA; Thomson Video Networks, CESSON-SEVIGNE Cedex, FRANCE; Cloudsoft Corporation, Edinburgh, SCOTLAND; ItsOn Inc., Redwood City, CA; Guavus, San Mateo, CA; UNITEL S.A., Município de Luanda, ANGOLA; Entel Chile PCS Telecomunicaciones SA, Santiago, CHILE; MayerConsult Inc., Ottawa, CANADA; WebAction, Palo Alto, CA; IneoQuest Technologies, Inc., Mansfield, MA; Hochschule für Telekommunikation Leipzig (HfTL), Leipzig, GERMANY; Moogsoft Inc., San Francisco, CA; GTD Larga Distancia, Santiago, CHILE; TMNS b.v., Den Haag, THE NETHERLANDS; UK Broadband Ltd., London, UNITED KINGDOM; Intersec Group, Paris La Défense, FRANCE; Apptium, Herndon, VA; Efiniti Services, New South Wales, AUSTRALIA; Scarlet S.A, Evere, BELGIUM; Mobile Telecomunications Company K.S.C.P, Kuwait City, KUWAIT; Mobifone Corporation, Hanoi, VIETNAM; Inmarsat, St. Johns, CANADA; Facebook, Menlo Park, CA; MTN Ghana, Accra, GHANA; Millicom Tigo Guatemala, Guatemala City, GUATEMALA; Banan IT FZ-LLC, Dubai Internet City, UAE; Oliver Solutions Ltd., Hertzlia, ISRAEL; SourceConnect, Chicago, IL; Agillis Satcom, Singapore, SINGAPORE; AFNS, LLC, Reston, VA; Gn0man, Glen Ellyn, IL; Yozma Timeturns, Kinshasa, DEMOCRATIC REPUBLIC OF THE CONGO; ieon consulting Ltd., London, UNITED KINGDOM; and Massy Group, Port of Spain, TRINIDAD AND TOBAGO, have been added as parties to this venture.

The following members have changed their names: Axiata Management Services Sdn Bhd to Axiata Intelligence Unit, Kuala Lumpur, MALAYSIA; Nixu Software Oy Ltd. to FusionLayer, Inc., Espoo, FINLAND; Qvantel Software Solutions Ltd. to Qvantel Oy, Tampere, FINLAND; Woodward Systems Inc. to Cloud Perspectives (a Woodward Systems Inc Company), Nepean, CANADA; Grupo GTD to GTD Larga Distancia, Santiago, CHILE; Source Connections LLC to SourceConnect, Chicago, IL; and Johanne Mayer to MayerConsult Inc., Ottawa, CANADA.

The following members have withdrawn as parties to this venture: AAPT Limited, Sydney, AUSTRALIA; Active Broadband Networks, Framingham, MA; Advanced Technology Group, Kansas City, MO; Agiled, Santiago, CHILE; Avigato Consulting GmbH, Bad Homburg, GERMANY; BAIX Corporation, Cheyenne, WY; Basset AB, Sundysberg, SWEDEN; Bell Aliant, Hallifax, CANADA; Big Data Works, Plano, TX; Bull Telecom & Media, Les-Clayes-Sous-Bois, FRANCE; BVG IT Services bvba, Mechelen, BELGIUM; Canoe Ventures, Englewood, CO; CellVision, Lysaker, NORWAY; Century Telecom Lebanon, Beirut, LEBANON; Cliintel, Centennial, CO; Covalense Technologies Ltd., Hyderabad, INDIA; Cricket Wireless, San Diego, CA; CTC Ltd., Kyiv, UKRAINE; Enhancesys Innovations LLC, Cupertino, CA; EPAEON LTD, Nicosia, CYPRUS; E-Plus Mobilfunk GmbH & Co. KG, Duesseldorf, GERMANY; Intel Corporation, Santa Clara, CA; Iskratel, d.o.o., Kranj, SLOVENIA; Laboratory For Telecomm-Faculty of Elect. Eng. University of Ljubljana, Ljubljana, SLOVENIA; Limtel Sp. z o.o., Olsztyn, POLAND; Mendix Inc., Boston, MA; Mirus Teknologia, Osterville, MA; Modern Times Group MTG AB, Stockholm, SWEDEN; Network Rail, Milton Keynes, UNITED KINGDOM; NetYCE, Amsterdam, THE NETHERLANDS; New South Wales Government Telecommunications Authority, Sydney, AUSTRALIA; NII Holdings, Inc., Reston, VA; Nordiska Servercentralen AB, Bromma, SWEDEN; Olds Fibre Ltd., Olds, CANADA; Omera Consulting P/S, Copenhagen, DENMARK; Pacific Broadband Networks Limited, Scoresby, AUSTRALIA; Petrobras, Rio de Janeiro, BRAZIL; Proxwel, Bizerte, TUNISIA; Resolvetel Ltd., Henley-on-Thames, UNITED KINGDOM; Selex ES, Rome, ITALY; Singer TC GmbH, Schwedeneck, GERMANY; SLA Mobile, Belfast, UNITED KINGDOM; Smart Information Systems Gmbh, Vienna, AUSTRIA; Systex Corporation, Taipei, TAIWAN; TELEMAR NORTE LESTE S.A., Rio de Janeiro, BRAZIL; TOA Technologies, Inc., Beachwood, OH; University of Stuttgart, Stuttgart, GERMANY; Univision LLC, Ulaanbaatar, MONGOLIA; VDVL, Rijswijk, THE NETHERLANDS; Viasat, Inc., Carlsbad, CA; VIP Operator, Skopje, MACEDONIA; Vodacom (Pty) Ltd., Midrand, SOUTH AFRICA; WebRadar, Rio de Janeiro, BRAZIL; wwite p/l, Eaglemont, AUSTRALIA; Zain Kuwait, Kuwait City, KUWAIT; Zettics, Seattle, WA; beCloud, Minsk, BELARUS; CORRELOR TECHNOLOGIES PTE. LTD., Singapore, SINGAPORE; Innovise ESM Ltd., Slough, UNITED KINGDOM; Kwezi Software Solutions, Woodmead, SOUTH AFRICA; Maksen Consulting, S.A., Lisbon, PORTUGAL; Maxis Broadband Sdn Bhd, Kuala Lumpur, MALAYSIA; Mediaan/abs bv, Heerlen, THE NETHERLANDS; Polish Telephones Foundation, Warszawa, POLAND; Portugal Telecom Inovacao, SA, Aveiro, PORTUGAL; PT Comunicacoes, Lisbon, PORTUGAL; SAPO (PT Comunicacoes), Lisbon, PORTUGAL; Softera Oy, Helsinki, FINLAND; Telecom Argentina, S.A., Buenos Aires, ARGENTINA; Telefonica Global Technology SA, Caba, ARGENTINA; Ufone, Islamabad, PAKISTAN; Vodafone India Limited, Mumbai, INDIA; and Zain KSA, Riyadh, SAUDI ARABIA.

No other changes have been made in either the membership or planned activity of the group research project. Membership in this group research project remains open, and The Forum intends to file additional written notifications disclosing all changes in membership.

On October 21, 1988, The Forum filed its original notification pursuant to section 6(a) of the Act. The Department of Justice published a notice in the Federal Register pursuant to section 6(b) of the Act on December 8, 1988 (53 FR 49615).

The last notification was filed with the Department on April 21, 2015. A notice was published in the Federal Register pursuant to section 6(b) of the Act on May 27, 2015 (80 FR 30268).

Patricia A. Brink,
Director of Civil Enforcement, Antitrust Division.

[FR Doc. 2015-18627 Filed 7-29-15; 8:45 am]

BILLING CODE P